DEPARTMENT OF VETERANS AFFAIRS

Privacy Act of 1974; System of Records

AGENCY: Department of Veterans Affairs (VA), Veterans Benefits Administration.

ACTION: Notice of a modified system of records.

SUMMARY: Pursuant to the Privacy Act of 1974, notice is hereby given that the Department of Veterans Affairs (VA) proposes to revise the system of records titled “Loan Guaranty Fee Personnel and Program Participant Records—VA” (17VA26). This system contains information pertaining to Fee Personnel and Program Participants who are authorized to conduct VA property appraisals and those that process, close, fund and guaranty VA loans respectively. The previous system of records has expired and is being republished in full here.

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to “Loan Guaranty Fee Personnel and Program Participant Records—VA” (17VA26). Comments received will be available at regulations.gov for public viewing, inspection or copies.

FOR FURTHER INFORMATION CONTACT: Colin Deaso Assistant Director PMDI, Colin.Deaso@va.gov, 202-632-8796 Loan Guaranty Service (26), VA Central Office, Washington, DC 20420.

SUPPLEMENTARY INFORMATION: VA Loan Guaranty System(s) contain information pertaining to Fee Personnel and Program Participants who are authorized to conduct VA business for the purpose of delivering the home loan benefit to Veterans. VA delegates authority to these participants and the information assists VA Loan Guaranty in conducting oversight of these participants. The modification is necessary as VA Loan Guaranty transitions from physical paper information to electronic storage of this information. Additionally, the previous system of records has expired, necessitating republishing. Document images of paper records will be transitioned to data elements to be stored electronically in tables.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on June 5, 2023 for publication.

Dated: July 7, 2023.
Amy L. Rose,
Government Information Specialist, VA Privacy Service, Office of Compliance, Risk and Remediation, Office of Information and Technology, Department of Veterans Affairs.

SYSTEM NAME AND NUMBER:

Loan Guaranty Fee Personnel and Program Participant Records—VA (17VA26).

SECURITY CLASSIFICATION:

Unclassified.

SYSTEM LOCATION:

Records on non-suspended fee personnel and program participants are maintained in Department of Veterans Affairs (VA) information systems, VA Central Office, (VA) regional offices, medical and regional office centers, VA offices, and VA centers having loan guaranty activities. Records of non-supervised lenders and subsidiaries of supervised lenders having authority to process VA loans automatically are maintained in VA information systems, at VA Central Office, VA regional offices, medical and regional office centers, VA offices, and VA centers having loan guaranty activities. The National Control List of suspended program participants and fee personnel are maintained in VA information systems, at VA Central Office, at VA regional offices, medical and regional office centers, VA offices, and VA centers having loan guaranty activities. A Master Control list is maintained only at VA Central Office or in VA information systems. Address locations are listed in Appendix 1 at the end of this document.

SYSTEM MANAGER(S):

Colin Deaso, Assistant Director, PMDI, Loan Guaranty Service (26), Colin.Deaso@va.gov, 202-632-8796, VA Central Office, Washington, DC 20420.

AUTHORITY FOR MAINTENANCE OF THE SYSTEM:

Title 38, United States Code, chapter 3, section 210(c)(1); title 38, United States Code, chapters 21 and 37.

PURPOSE(S) OF THE SYSTEM:

VA Loan Guaranty System(s) contain information pertaining to Fee Personnel and Program Participants who are authorized to conduct VA business for the purpose of delivering the home loan benefit to Veterans. VA delegates authority to these participants and the information assists VA Loan Guaranty conduct oversight of these participants. The modification is necessary as VA Loan Guaranty transitions from physical paper information to electronic storage of this information.

CATEGORIES OF INDIVIDUALS COVERED BY THE SYSTEM:

(1) Fee personnel who may be paid by VA or by someone other than VA (i.e., appraisers, compliance inspectors, management brokers, and loan closing and fee attorneys who are not VA employees but are paid for actual case work performed), and

(2) Program participants (i.e., property management brokers and agents, real estate sales brokers and agents, participating lenders and their employees, title companies whose fees are paid by someone other than VA, and manufactured home dealers, manufacturers, and manufactured home park or subdivision owners).

CATEGORIES OF RECORDS IN THE SYSTEM:

(1) Applications by individuals to become VA-approved fee basis appraisers, compliance inspectors, fee attorneys, or management brokers; These applications include information concerning applicant's name, address, email address, business phone numbers, Social Security numbers or taxpayer identification numbers, and professional qualifications,

(2) Applications by non-supervised lenders for approval to close guaranteed loans without the prior approval of VA (automatically), applications by non-supervised lender for the nomination and recommendation of VA Credit Underwriter; These applications include information concerning the applicant's name, address, email address, business phone numbers, Social Security numbers, relevant employment history and experience and other necessary qualifications,

(3) Applications by lenders supervised by Federal or State agencies for designation as supervised automatic lenders in order that they may close loans without the prior approval (automatically) of VA; applications for automatic approval or designation (i.e., (2) and (3)) contain information concerning the corporate structure of the lender, professional qualifications of the lender's officers or employees, financial data such as profit and loss statements and balance sheets to insure the firm's financial integrity;

(4) Identifying information such as names, business names (if applicable), addresses, email addresses phone numbers, and professional resumes of corporate officials or employees,

(5) Corporate structure information on prior approval lenders, participating real estate sales brokers or agents, developers, builders, investors, closing attorneys, or other program participants as necessary to carry out the functions of the Loan Guaranty Program,

(6) Records of performance concerning appraisers, compliance inspectors, management brokers, or fee attorneys on both firms and individual employees,

(7) Records of performance including disciplinary proceedings, concerning program participants, e.g., lenders, investors, real estate brokers, builders, fee appraisers, compliance inspectors, and developers both as to the firm and to individual employees maintained on an as-needed basis to carry out the functions of the Loan Guaranty Program;

(8) The National Control Lists which identify suspended real estate brokers and agents, lenders and their employees, investors, manufactured home dealers and manufacturers, and builders or developers; and

(9) A master record of the National Control List (i.e., Master Control List) which includes information regarding parties previously suspended but currently reinstated to participation in the Loan Guaranty Program in addition to all parties currently suspended.

RECORD SOURCE CATEGORIES:

The information and the records in this system are obtained from the applicant, lenders, brokers and builder/sellers, credit and financial reporting agencies, an applicant's credit sources, depository institutions and employers, independent auditors and accountants, hazard insurance companies, taxing authorities, title companies, fee personnel, business and professional organizations, other VA records, other Federal, State, and local agencies, and other parties of interest involving VA guaranteed, insured, vendee or direct loans or specially adapted housing.

ROUTINE USES OF RECORDS MAINTAINED IN THE SYSTEM, INCLUDING CATEGORIES OF USERS AND PURPOSES OF SUCH USES:

1. Congress: To a Member of Congress or staff acting upon the Member's behalf when the Member or staff requests the information on behalf of, and at the request of, the individual who is the subject of the record.

2. Data breach response and remediation, for VA: To appropriate agencies, entities, and persons when (1) VA suspects or has confirmed that there has been a breach of the system of records,· (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

3. Data breach response and remediation, for another Federal agency: To another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement: To a Federal, state, local, territorial, tribal, or foreign law enforcement authority or other appropriate entity charged with the responsibility of investigating or prosecuting such violation or charged with enforcing or implementing such law, provided that the disclosure is limited to information that, either alone or in conjunction with other information, indicates a violation or potential violation of law, whether civil, criminal, or regulatory in nature. The disclosure of the names and addresses of veterans and their dependents from VA records under this routine use must also comply with the provisions of 38 U.S.C. 5701.

5. DoJ for Litigation or Administrative Proceeding: To the Department of Justice (DoJ), or in a proceeding before a court, adjudicative body, or other administrative body before which VA is authorized to appear, when:

(a) VA or any component thereof;

(b) Any VA employee in his or her official capacity;

(c) Any VA employee in his or her individual capacity where DoJ has agreed to represent the employee; or

(d) The United States, where VA determines that litigation is likely to affect the agency or any of its components, is a party to such proceedings or has an interest in such proceedings, and VA determines that use of such records is relevant and necessary to the proceedings.

6. Contractors: To contractors, grantees, experts, consultants, students, and others performing or working on a contract, service, grant, cooperative agreement, or other assignment for VA, when reasonably necessary to accomplish an agency function related to the records.

7. OPM: To the Office of Personnel Management (OPM) in connection with the application or effect of civil service laws, rules, regulations, or OPM guidelines in particular situations.

8. EEOC: To the Equal Employment Opportunity Commission (EEOC) in connection with investigations of alleged or possible discriminatory practices, examination of Federal affirmative employment programs, or other functions of the Commission as authorized by law.

9. FLRA: To the Federal Labor Relations Authority (FLRA) in connection with the investigation and resolution of allegations of unfair labor practices, the resolution of exceptions to arbitration awards when a question of material fact is raised, matters before the Federal Service Impasses Panel, and the investigation of representation petitions and the conduct or supervision of representation elections.

10. MSPB: To the Merit Systems Protection Board (MSPB) in connection with appeals, special studies of the civil service and other merit systems, review of rules and regulations, investigation of alleged or possible prohibited personnel practices, and such other functions promulgated in 5 U.S.C. 1205 and 1206, or as authorized by law.

11. NARA: To the National Archives and Records Administration (NARA) in records management inspections conducted under 44 U.S.C. 2904 and 2906, or other functions authorized by laws and policies governing NARA operations and VA records management responsibilities.

12. Governmental Agencies, for VA Hiring, Security Clearance, Contract, License, Grant: To a Federal, state, local, or other governmental agency maintaining civil or criminal violation records, or other pertinent information, such as employment history, background investigations, or personal or educational background, to obtain information relevant to VA's hiring, transfer, or retention of an employee, issuance of a security clearance, letting of a contract, or issuance of a license, grant, or other benefit. The disclosure of the names and addresses of veterans and their dependents from VA records under this routine use must also comply with the provisions of 38 U.S.C. 5701.

13. Federal Agencies, for Employment: To a Federal Agency, except the United States Postal Service, or to the District of Columbia government, in response to its request, in connection with that agency's decision on the hiring, transfer, or retention of an employee, the issuance of a security clearance, the letting of a contract, or the issuance of a license, grant, or other benefit by that agency.

14. State or Local Agencies, for Employment: To a state, local, or other governmental agency, upon its official request, as relevant and necessary to that agency's decision on the hiring, transfer, or retention of an employee, the issuance of a security clearance, the letting of a contract, or the issuance of a license, grant, or other benefit by that agency. The disclosure of the names and addresses of veterans and their dependents from VA records under this routine use must also comply with the provisions of 38 U.S.C. 5701.

15. Federal Agencies involved in Loan Origination: Other Groups Involved in Housing and Home Loan Origination: Identifying information and the reasons for the suspension of builders, developers, lenders, lender employees, real estate sales brokers and agents, manufactured home dealers, manufacturers, or other program participants suspended from participation in the Loan Guaranty Program may be disclosed to the Department of Housing and Urban Development (HUD), the Federal Housing Administration (FHA), United States Department of Agriculture (USDA), Farmers Home Administration, or other Federal, State, or local agencies to enable that agency to consider imposing similar restrictions on these suspended persons and/or firms.

16. Other Groups Involved in Housing and Home Loan Origination: Identifying information and the performance records of qualified fee appraisers and compliance inspectors, including any information regarding their termination, non-redesignation, temporary suspension, or resignation from participation in the Loan Guaranty Program, including the records of any disciplinary proceedings, may be disclosed to Federal, State, or local, or non-government agencies, businesses, and professional organizations, to permit these entities to employ, continue to employ or contract for the services of qualified fee personnel, monitor the performance of such personnel, and take any appropriate disciplinary action.

17. Business Associations: Other Groups Involved in Housing and Home Loan Origination: Identifying information as well as other information such as educational background and former business associations may be disclosed to business and professional organizations in order for VA to obtain these organizations' recommendations concerning the performance, character, professional activities, and other qualifications relating to participation in the Loan Guaranty Program.

18. Treasury, to Report Earnings as Income:

To the Department of the Treasury to report calendar year earnings of $600 or more for income tax reporting purposes.

19. Participants in Loan Guaranty Programs: Identifying information and the reasons for suspension of individuals and/or firms suspended from the Loan Guaranty Program may be disclosed to other participants in the Loan Guaranty Program in order that to decide whether or not to employ, or continue to employ, or contract with a suspended individual or firm.

20. Individual Participants in Loan Guaranty Programs: Identifying information and information concerning the performance of contractors, fee personnel, and other program participants may be released to consumer reporting agencies in order that VA may obtain information on their prior dealings with other Government agencies and so that other Government agencies may have the benefit of VA's experience with such parties.

21. General Services Administration (GSA): The names and addresses of debarred or suspended Loan Guaranty Program participants as well as the effective date and term of the exclusion may be disclosed to the General Services Administration to compile and maintain the “Lists of Parties Excluded from Federal Procurement or Nonprocurement Programs.”

POLICIES AND PRACTICES FOR STORAGE OF RECORDS:

Records on fee personnel and program participants are kept in a VA participant information system indefinitely, kept on paper documents, maintained in file folders and as electronically scanned documents. The National Control List of suspended program participants is also maintained in electronic storage within the VA datacenter. Records in this system are retained and disposed of in accordance with the schedule approved by the Archivist of the United States

POLICIES AND PRACTICES FOR RETRIEVAL OF RECORDS:

All records are retrievable through the user interface of the information system or indexed or cross-indexed by the name of the individual or the firm.

POLICIES AND PRACTICES FOR RETENTION AND DISPOSAL OF RECORDS:

Records pertaining to fee personnel must be retained until imaged and uploaded into the VA system of record and as outlined in the records control schedule. Destruction of all the above records is accomplished by either shredding or burning. Electronic VA information systems records are kept indefinitely.

ADMINISTRATIVE, TECHNICAL, AND PHYSICAL SAFEGUARDS:

Access to VA participant information systems is managed through identity and access manager controls. VA working spaces and record file storage areas is restricted to VA employees on a “need to know” basis. Generally, VA file areas are locked after normal duty hours and are protected from outside access by the Federal Protective Service or other VA security personnel. Sensitive files involving pending suspension, or a legal action are stored in separate locked files, and or electronically scanned and securely stored in VA information systems.

RECORD ACCESS PROCEDURES:

An individual seeks access to records maintained under his or her name on this system may write or call Department of Veterans Affairs Regional Office, Loan Guaranty Service. Address locations are listed in VA Appendix 1 at the end of this document. However, some of the records in this system are exempt from the record access requirements under 5 U.S.C. 552a(k). To the extent that records in this system of records are not subject to exemption, they are subject to access. A determination as to whether an exemption applies shall be made at the time a request for access is received.

CONTESTING RECORD PROCEDURES:

(See Record access procedures above.)

NOTIFICATION PROCEDURES:

An individual who wishes to determine whether a record is being maintained in this system under his or her name or other personal identifier or wants to determine the contents of such record should submit a written request Department of Veterans Affairs Loan Guaranty Service. Addresses for VA Regional Loan Centers may be found in VA Appendix 1 at the end of this document or VA.gov. All inquiries must reasonably identify the benefit or system of records involved, i.e.; Loan Guaranty. Inquiries should include the individual's full name, VA file number or loan number. If the VA file or loan number is not available, then as much of the following information as possible should be forwarded: Address of the property secured by a VA- guaranteed, insured or portfolio loan, owner or former owners of the property, name of lender and lender's loan number, branch of service, service number or social security number. Some of the records in this system are exempt from the notification requirement under 5 U.S.C. 552a(k). To the extent that records in this system of records are not subject to exemption, they are subject to notification. A determination as to whether an exemption applies shall be made at the time a request for notification is received.

EXEMPTIONS PROMULGATED FOR THE SYSTEM:

The Department of Veterans Affairs has exempted this system of records from the following provisions of the Privacy Act of 1974, as permitted by 5 U.S.C. 552a(k)(2), 5 U.S.C. 552a(c)(3), 5 U.S.C. 552a(d), 5 U.S.C. 552a(e)(1), 5 U.S.C. 552a(e)(4)(G), (H) and (I), and 5 U.S.C. 552a(f).

Reasons for exemptions: The exemption of information and material in this system of records is necessary in order to accomplish the law enforcement functions of the Loan Guaranty Service to prevent subjects of internal audit investigations for potential fraud and abuse in the VA Loan Guaranty Program from frustrating the investigatory process, to fulfill commitments made to protect the confidentiality of sources, to maintain access to sources of information and to avoid endangering these sources.

HISTORY:

78 FR 71727, November 29, 2013.

VA Appendix 1: VA Regional Offices with Loan Activities. Veterans should call the telephone numbers listed to obtain information or assistance with the VA Home Loan program. For more information or to search for a facility near you by jurisdiction, visit http://www.benefits.va.gov/homeloans/contact_rlc_info.asp or call (877) 827-3702. Please send address and telephone number corrections to: Department of Veterans Affairs, Loan Guaranty Service (26), 810 Vermont Ave. NW, Washington, DC 20420. Atlanta Regional Loan Center Jurisdiction for Georgia, North Carolina, South Carolina, Tennessee: Office: 1700 Clairmont Road, Decatur, GA 30033-4032 Mail: P.O. Box 100023, Decatur, GA 30031-7023 Cleveland Regional Loan Center Jurisdiction for Connecticut, Delaware, Indiana, Maine, Massachusetts, Michigan, New Hampshire, New Jersey, New York, Ohio, Pennsylvania, Rhode Island, Vermont: Office and Mail: 1240 East, Ninth Street, Cleveland, OH 44199 Denver Regional Loan Center Jurisdiction for Alaska, Colorado, Idaho, Montana, Oregon, Utah, Washington, Wyoming: Office: 155 Van Gordon Street, Lakewood, CO 80228 Mail: Box 25126, Denver, CO 80225 Houston Jurisdiction for Arkansas, Louisiana, Oklahoma, Texas: Office and Mail: 6900 Almeda Road, Houston, TX 77030-4200 Phoenix Jurisdiction for Arizona, California, New Mexico, Nevada, Hawaii, Guam, American Samoa, Commonwealth of the Northern Marianas: Office and Mail: 3333 N Central Avenue, Phoenix, AZ 85012-2402 Roanoke Jurisdiction for District of Columbia, Kentucky, Maryland, Virginia, West Virginia: Office: 210 First Street, Roanoke, VA 24011 Mail: 116 N Jefferson Street, Roanoke, VA 24016 St. Paul Jurisdiction for Illinois, Iowa, Kansas, Minnesota, Missouri, Nebraska, North Dakota, South Dakota, Wisconsin: Office and Mail: 1 Federal Drive, Ft. Snelling, St. Paul, MN 55111-4050 St. Petersburg Jurisdiction for Alabama, Florida, Mississippi, Puerto Rico, U.S. Virgin Islands: Office and Mail: 9500 Bay Pines Boulevard, Bay Pines, FL 33744.

[FR Doc. 2023-14709 Filed 7-11-23; 8:45 am]

BILLING CODE 8320-01-P